DEPARTMENT OF AGRICULTURE

Submission for OMB Review; Comment Request

July 2, 2018.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by August 6, 2018. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Contractor Labor Survey.

OMB Control Number: 0535—New.

Summary of Collection: Agricultural labor statistics are an integral part of the primary function of the National Agricultural Statistics Service (NASS), which is the collection, processing, and dissemination of current State, regional, and national agricultural statistics. Wage rate estimates have been published since 1866 and U.S. farm employment estimates have been published since 1910. General authority for these data collection activities is granted under U.S. Code Title 7, Section 2204. Historically, NASS has only collected worker data related to farm workers who were hired directly by the farm operator either on a part-time or full-time basis.

Need and Use of the Information: The Contract Labor Survey is a new data collection that NASS will begin conduction in October 2018 as a pilot survey. The pilot survey will help to better understand the contractor population, as well as the type of data that contractors can and will provide. The results of the pilot study will b used to improve the next biannual survey, which is scheduled for April 2019.

Description of Respondents: Business or other for-profit; Farms.

Number of Respondents: 11,333.

Frequency of Responses: Reporting: Annually.

Total Burden Hours: 8,982.

Ruth Brown,
Departmental Information Collection Clearance Officer.

[FR Doc. 2018-14498 Filed 7-5-18; 8:45 am]

BILLING CODE 3410-20-P